DEPARTMENT OF THE INTERIOR

National Park Service

[NPS-WASO-NAGPRA-NPS0038355; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida-Florida Museum of Natural History (FLMNH) has completed an inventory of human remains and associated funerary objects and has determined that there is a cultural affiliation between the human remains and associated funerary objects and Indian Tribes or Native Hawaiian organizations in this notice.

DATES: Repatriation of the human remains and associated funerary objects in this notice may occur on or after August 29, 2024.

ADDRESSES: Michelle LeFebvre, University of Florida, Florida Museum of Natural History, 1659 Museum Road, Gainesville, FL 32611, telephone (352) 273-1917, email mlefebvre@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing, at least, one individual have been identified. The 605 associated funerary objects are invertebrate specimens, vertebrate specimens, pottery sherds, and a lithic point. The human remains and associated funerary objects were removed from the Calusa Island site (8LL45) located on Calusa Island in Lee County, FL, between February 10-14, 2020, by an archaeological investigation led by the FLMNH. The project included the excavation of a 1x2 m test unit along a heavily eroded edge of the coastal midden on the north shoreline of the island. The test unit was not completed during the 2020 field season and was backfilled for completion later that same year. The excavated assemblage was securely stored at the FLMNH Randell Research Center on Pine Island, near Calusa Island. The onset of the COVID-19 pandemic in March 2020, followed by Hurricane Ian destruction in September 2022, delayed the completion of the test unit. Following the hurricane, the excavated assemblage on Pine Island was moved to the FLMNH research and collections facility in Gainesville, FL, at the University of Florida. Analysis of the excavated assemblage commenced in January 2023 and led to the identification of human remains. Upon their identification, on January 27, 2024, the human remains were reported to the Florida Bureau of Archaeological Research and the State Archaeologist assumed jurisdiction of the human remains in compliance with Florida State Statute 872.05. All other handling of the associated test unit archaeological assemblage ceased. Through consultation, on March 26, 2024, the 872.05 process and state jurisdiction of the assemblage ended at the request of the Seminole Tribe of Florida and the FLMNH initiated NAGPRA compliance for the repatriation of the human remains and associated funerary objects. During NAGPRA consultation, it was determined the human remains are culturally affiliated with the Seminole Tribe of Florida and the associated funerary objects include all excavated finds from the test unit. No hazardous substances were used to treat any of the human remains or associated funerary objects.

Cultural Affiliation

Based on the information available and the results of consultation, cultural affiliation is reasonably identified by the geographical location or acquisition history of the human remains and associated funerary objects described in this notice.

Determinations

The University of Florida-Florida Museum of Natural History has determined that:

• The human remains described in this notice represent the physical remains of one individual of Native American ancestry.

• The 605 objects described in this notice are reasonably believed to have been placed intentionally with or near individual human remains at the time of death or later as part of the death rite or ceremony.

• There is a connection between the human remains and associated funerary objects described in this notice and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 29, 2024. If competing requests for repatriation are received, the University of Florida-Florida Museum of Natural History must determine the most appropriate requestor prior to repatriation. Requests for joint repatriation of the human remains and associated funerary objects are considered a single request and not competing requests. The University of Florida-Florida Museum of Natural History is responsible for sending a copy of this notice to the Indian Tribes and Native Hawaiian organizations identified in this notice.

Authority: Native American Graves Protection and Repatriation Act, 25 U.S.C. 3003, and the implementing regulations, 43 CFR 10.10.

Dated: July 17, 2024.
Melanie O'Brien,
Manager, National NAGPRA Program.

[FR Doc. 2024-16711 Filed 7-29-24; 8:45 am]

BILLING CODE 4312-52-P